DEPARTMENT OF COMMERCE

National Oceanic and Atmospheric Administration

RIN 0648-XA381

Western Pacific Fishery Management Council; Public Meetings

AGENCY: National Marine Fisheries Service (NMFS), National Oceanic and Atmospheric Administration (NOAA), Commerce.

ACTION: Notice of public meetings.

SUMMARY: This notice advises the public that the Western Pacific Fishery Management Council (Council) will convene meetings of the Community Demonstration Projects Program (CDPP) Advisory Panel in Honolulu, HI.

DATES: The CDPP Advisory Panel meeting will be held Tuesday and Wednesday, April 26-27, 2011. For the specific date, time, and agenda for each meeting see SUPPLEMENTARY INFORMATION.

ADDRESSES: The meetings of the CDPP Advisory Panel will be held at the Council office at 1164 Bishop Street, Suite 1400, Honolulu, HI 96813.

FOR FURTHER INFORMATION CONTACT: Kitty M. Simonds, Executive Director; telephone: (808) 522-8220.

SUPPLEMENTARY INFORMATION: The date, time and agenda for each meeting are as follows:

Tuesday, April 26, 2011, 9 a.m.-5 p.m.

1. Introductions.

2. Review of CDPP and Marine Education and Training (MET) Magnuson-Steven Act authorities.

3. Overview of 2011 Grant Solicitation.

a. CDPP Federal Funding Opportunity.

b. MET Federal Funding Opportunity.

4. Reviewer Conflict of Interest and Confidentiality Certification.

5. CDPP Grant Application Review and Ranking Process.

a. CDPP Program Review Instructions.

b. CDPP Program Evaluation Criteria.

c. CDPP Evaluation Form.

6. Panel review and ranking of CDPP Applications.

a. Overview of 2011 CDPP Applications.

b. Panel discussion and recommendations.

Wednesday, April 27, 2011, 9 a.m.-5 p.m.

7. MET Grant Application Review and Ranking Process.

a. MET Program Review Instructions.

b. MET Program Evaluation Criteria.

c. MET Evaluation Form.

8. Panel review and ranking of MET Applications.

a. Overview of 2011 MET Applications.

b. Panel discussion and recommendations.

9. Summary of AP review and recommendations for funding 2011 CDPP and MET grant applications.

The order in which agenda items are addressed may change. Public comment periods will be provided during the agenda. The CDPP Advisory Panel will meet as late as necessary to complete scheduled business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 18, 2011.
Tracey L. Thompson,
Acting Director, Office of Sustainable Fisheries Service.

[FR Doc. 2011-9677 Filed 4-20-11; 8:45 am]

BILLING CODE 3510-22-P